FEDERAL COMMUNICATIONS COMMISSION

47 CFR Part 79

[MB Docket Nos. 12-108, 12-107; Report No. 2996]

Petition for Reconsideration of Action in Rulemaking Proceeding

AGENCY: Federal Communications Commission.

ACTION: Petition for reconsideration.

SUMMARY: In this document, a Petition for Reconsideration (Petition) has been filed in the Commission's Rulemaking proceeding by the National Association of the Deaf, et al.

DATES: Oppositions to the Petition must be filed by February 18, 2014. Replies to an opposition must be filed by February 25, 2014.

ADDRESSES: Federal Communications Commission, 445 12th Street SW., Washington, DC 20554.

FOR FURTHER INFORMATION CONTACT: For additional information on this proceeding, contact Adam Copeland, Adam.Copeland@fcc.gov <mailto: Adam.Copeland@fcc.gov.>, Media Bureau, Policy Division, (202) 418-2120.

SUPPLEMENTARY INFORMATION: This is a summary of Commission's document, Report No. 2996, released January 24, 2014. The full text of this document is available for viewing and copying in Room CY-B402, 445 12th Street SW., Washington, DC 20554, or may be purchased from the Commission's copy contractor, Best Copy and Printing, Inc. (BCPI) (1-800-378-3160). The Commission will not send a copy of this Notice pursuant to the Congressional Review Act, 5 U.S.C. 801(a)(1)(A), because this Notice does not have an impact on any rules of particular applicability.

Subject: Accessibility of User Interfaces, and Video Programming Guides and Menus; Accessible Emergency Information, and Apparatus Requirements for Emergency Information and Video Description: Implementation of the Twenty-First Century Communications and Video Accessibility Act of 2010, published at 78 FR 77209, December 20, 2013, and published pursuant to 47 CFR 1.429(e). See § 1.4(b)(1) of the Commission's rules.

Number of Petitions Filed: 1.

Federal Communications Commission.
Gloria J. Miles,
Federal Register Liaison, Office of the Secretary, Office of Managing Director.

[FR Doc. 2014-02000 Filed 1-30-14; 8:45 am]

BILLING CODE 6712-01-P